DEPARTMENT OF AGRICULTURE

National Agricultural Statistics Service

Notice of Intent To Seek Approval To Reinstate an Information Collection; Correction

AGENCY: National Agricultural Statistics Service, USDA.

ACTION: Notice; correction.

SUMMARY: In accordance with the Paperwork Reduction Act of 1995, the National Agricultural Statistics Service (NASS) published a correction notice in the Federal Register of April 12, 2021, concerning the intention of NASS to seek reinstatement of an information collection, the 2022 Census of Agriculture. The document contained an incorrect date.

ADDRESSES: You may submit comments, identified by docket number 0535-0226, by any of the following methods:

• Email: ombofficer@nass.usda.gov. Include docket number above in the subject line of the message.

• E-fax: (855) 838-6382.

• Mail: Mail any paper, disk, or CD-ROM submissions to: David Hancock, NASS Clearance Officer, U.S. Department of Agriculture, Room 5336 South Building, 1400 Independence Avenue SW, Washington, DC 20250-2024.

• Hand Delivery/Courier: Hand deliver to: David Hancock, NASS Clearance Officer, U.S. Department of Agriculture, Room 5336 South Building, 1400 Independence Avenue SW, Washington, DC 20250-2024.

FOR FURTHER INFORMATION CONTACT: Kevin L. Barnes, Associate Administrator, National Agricultural Statistics Service, U.S. Department of Agriculture, (202) 720-2707. Copies of this information collection and related instructions can be obtained without charge from David Hancock, NASS—OMB Clearance Officer, at (202)690-2388 or at ombofficer@nass.usda.gov.

SUPPLEMENTARY INFORMATION:

Correction

In the Federal Register of April 12, 2021, FR Doc. 2021-07404, on page 18937, in the second column, correct the DATES caption to read as follows:

DATES: Comments on this notice must be received by May 7, 2021 to be assured of consideration.

Signed at Washington, DC, April 6, 2021.
Yvette Anderson,
Federal Register Liaison Officer for ARS, ERS, NASS.

[FR Doc. 2021-07740 Filed 4-15-21; 8:45 am]

BILLING CODE 3410-20-P